DEPARTMENT OF TRANSPORTATION

Coast Guard

33 CFR Part 165

[COTP San Diego 02-016]

RIN 2115-AA97

Safety Zone; San Diego Bay, CA

AGENCY: Coast Guard, DOT.

ACTION: Temporary final rule.

SUMMARY: The Coast Guard is establishing two (2) temporary safety zones: A stationary safety zone and a moving safety zone, both on the navigable waters of North San Diego Bay in support of the Parade of Ships-Festival of Sail. These temporary safety zones are necessary to provide for the safety of the crews, spectators, participants of the event, participating vessels and other vessels and users of the waterway. Persons and vessels are prohibited from entering into, transiting through, or anchoring within these safety zones unless authorized by the Captain of the Port, or his designated representative.

DATES: This rule is effective from 12:30 [PDT] to 4:30 [PDT] on September 12, 2002.

ADDRESSES: Documents indicated in this preamble as being available in the docket are part of docket [COTP San Diego 02-016] and are available for inspection or copying at U.S. Coast Guard, Marine Safety Office San Diego, 2716 North Harbor Drive, San Diego, CA 92101-1064, between 8 a.m. and 4 p.m., Monday through Friday, except Federal holidays.

FOR FURTHER INFORMATION CONTACT: Petty Officer Austin Murai, USCG, c/o U.S. Coast Guard Captain of the Port, telephone (619) 683-6495.

SUPPLEMENTARY INFORMATION:

Regulatory Information

We did not publish a notice of proposed rulemaking (NPRM) for this regulation. Under 5 U.S.C. 553(b)(B), the Coast Guard finds that good cause exists for not publishing an NPRM. Final approval and permitting of this event were not issued in time to engage in full notice and comment rulemaking. Moreover, through various meetings and correspondence, the Coast Guard has attempted to involve other agencies within the port in the planning process of the Parade of Ships-Festival of Sail. The public will also be reminded about this event through Broadcast Notice to Mariners (BNM) announcements and Local Notice to Mariner (LNM) publications. Furthermore, the event will have minimal impact on the public since it is of a short duration, four (4) hours, and will take place during non-commute hours from 12:30 p.m. until 4:30 pm.

Under 5 U.S.C. 553(d)(3), the Coast Guard finds that good cause exists for making this rule effective less than 30 days after publication in the Federal Register. In addition to the reasons stated above, it would be contrary to the public interest not to publish this rule because the event has been permitted and participants and the public require protection.

Background and Purpose

The American Sail Training Association, in coordination with local sponsors like “San Diego Maritime Museum”, is sponsoring the 2002 Tall Ships Challenge race series transiting the Pacific Ocean along the west coast of North America. Between the races, the participating vessels will visit several ports including San Diego Bay. These temporary safety zones are established in support of the Parade of Ships-Festival of Sail, a marine event that includes participating vessels transiting through San Diego Bay and, upon completion of the parade, mooring in San Diego Bay, giving spectators an opportunity to tour the participating vessels. These temporary safety zones are necessary to provide for the safety of the crews, spectators, and participants of the Parade of Ships-Festival of Sail and are also necessary to protect other vessels and users of waterway.

Discussion of Rule

The limits of the proposed stationary safety zone in North San Diego Bay are as follows: From a point on land at 32°42′26″ N, 117°10′25″ W, thence west to 32°42′26″ N, 117°11′07″ W, thence southwest to 32°42′59″ N, 117°11′20″ W, thence southeast to 32°42′35″ N, 117°10′38″ W, thence southeast to 32°42′13″ N, 117°10′06″ W, thence northeast to point on land 32°42′19″ N, 117°10′02″ W, thence along shoreline to the point of origin. All coordinates are North American Datum 1983.

The limits of the proposed moving safety zone in North San Diego Bay are as follows: 1000 yards forward, 200 yards on either side, and 500 yards behind the parade of ships transiting through San Diego Bay.

The Coast Guard proposes to establish two (2) safety zones that will be enforced from 12:30 p.m. to 4:30 p.m. on September 12, 2002. These safety zones are necessary to provide for the safety of the crews, spectators, and participants of the Parade of Ships-Festival of Sail and to protect other vessels and users of waterway. Participating escort vessels will fly an 8 foot white banner with a fluorescent green flag bearing the word “official”, indicating their official association with the Parade of Ships-Festival of Sail. Persons and vessels will be prohibited from entering into, transiting through, or anchoring within these safety zones unless authorized by the Captain of the Port, or his designated representative.

Regulatory Evaluation

This rule is not a “significant regulatory action” under section 3(f) of Executive Order 12866, Regulatory Planning and Review, and does not require an assessment of potential costs and benefits under section 6(a)(3) of that Order. The Office of Management and Budget has not reviewed it under that Order. It is not significant under the regulatory policies and procedures of the Department of Transportation (DOT) (44 FR 11040, February 26, 1979). We expect the economic impact of this rule to be so minimal that a full Regulatory Evaluation under paragraph 10e of the regulatory policies and procedures of DOT is unnecessary because of its limited duration of four and one-half (4.5) hours and the limited geographic scope of the safety zones.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities. These safety zones would not have a significant economic impact on a substantial number of small entities because these zones are limited in scope and duration (in effect for only four (4) hours on August 28, 2002). In addition, the Coast Guard will publish local notice to mariners (LNM) and will issue broadcast notice to mariners (BNM) alerts via VHF-FM marine channel 16 before the safety zone is enforced.

Assistance for Small Entities

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule would not result in such expenditure, we do discuss the effects of this rule elsewhere in this preamble.

Taking of Private Property

This rule would not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that, under figure 2-1, paragraph (34)(g), of Commandant Instruction M16475.lD, this rule is categorically excluded from further environmental documentation because we are proposing to establish a safety zone. A “Categorical Exclusion Determination” is available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-1, 6.04-6, and 160.5; 49 CFR 1.46.

2. Add new § 165.T11-045 to read as follows:

§ 165.T11-045 Safety Zone; San Diego Bay, CA.

(a) Location. The following areas are safety zones:

(1) Stationary safety zone. From a point on land at 32°42′26″ N, 117°10′25″ W, thence west to 32°42′26″ N, 117°11′07″ W, thence southwest to 32°42′59″ N, 117°11′20″ W, thence southeast to 32°42′35″ N, 117°10′38″ W, thence southeast to 32°42′13″ N, 117°10′06″ W, thence northeast to point on land 32°42′19″ N, 117°10′02″ W, thence along shoreline to the point of origin. All coordinates are North American Datum 1983.

(2) Moving safety zone. A moving safety zone within one-thousand (1000) yards forward, two-hundred (200) yards on either side, and five-hundred (500) yards behind all vessels participating in the Parade of Ships-Festival of Sail as they transit through San Diego Bay. Escort vessels participating in this event will be distinguished by their 8 foot white banners and fluorescent green flags bearing the word “official”.

(b) Effective period. This section is effective from 12:30 p.m. until 4:30 p.m. on September 12, 2002.

(c) Regulations. In accordance with the general regulations in § 165.23 of this part, entry into, transit through or anchoring within these safety zones is prohibited unless authorized by the Coast Guard Captain of the Port, San Diego, or his designated representative.

Dated: July 29, 2002.
S.P. Metruck,
Commander, Coast Guard, Captain of the Port, San Diego.

[FR Doc. 02-21645 Filed 8-23-02; 8:45 am]

BILLING CODE 4910-15-P